DEPARTMENT OF TRANSPORTATION

Federal Motor Carrier Safety Administration

[Docket ID FMCSA-2009-0154]

Qualification of Drivers; Exemption Applications; Vision

AGENCY: Federal Motor Carrier Safety Administration (FMCSA), DOT.

ACTION: Notice of applications for exemptions; request for comments.

SUMMARY: FMCSA announces receipt of applications from 40 individuals for exemption from the vision requirement in the Federal Motor Carrier Safety Regulations. If granted, the exemptions would enable these individuals to qualify as drivers of commercial motor vehicles (CMVs) in interstate commerce without meeting the Federal vision standard.

DATES: Comments must be received on or before August 27, 2009.

ADDRESSES: You may submit comments bearing the Federal Docket Management System (FDMS) Docket ID FMCSA-2009-0154 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 40 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Michael K. Adams

Mr. Adams, age 48, has had a retinal detachment in his right eye since 1976. The best corrected visual acuity in his right eye is light perception and in his left eye, 20/20. Following an examination in 2009, his optometrist noted, “In my medical opinion, Mr. Adams has sufficient vision to perform driving tasks required to operate a commercial vehicle.” Mr. Adams reported that he has driven straight trucks for 28 years, accumulating 140,000 miles, and tractor-trailer combinations for 28 years, accumulating 420,000 miles. He holds a Class A Commercial Driver's License (CDL) from Ohio. His driving record for the last 3 years shows no crashes and no convictions for moving violations in a CMV.

Michael J. Amorese

Mr. Amorese, 46, has macular scarring due to a traumatic injury since childhood. The best corrected visual acuity in his right eye is 20/20 and in his left eye, 20/200. Following an examination in 2009, his ophthalmologist noted, “In my opinion, Mr. Michael Amorese has sufficient vision to perform the driving tasks required to operate a commercial vehicle.” Mr. Amorese reported that he has driven straight trucks for 20 years, accumulating 150,000 miles. He holds a Class D operator's license from New York. His driving record for the last 3 years shows no crashes and no convictions for moving violations in a CMV.

Mark R. Anderson

Mr. Anderson, 56, has had amblyopia in his right eye since childhood. The best corrected visual acuity in his right eye is light perception and in his left eye, 20/20. Following an examination in 2009, his optometrist noted, “It is my opinion that Mark can perform all driving tasks required to operate a commercial vehicle.” Mr. Anderson reported that he has driven straight trucks for 36 years, accumulating 216,000 miles. He holds a Class C operator's license from Michigan. His driving record for the last 3 years shows no crashes and no convictions for moving violations in a CMV.

Darrell W. Bayless

Mr. Bayless, 49, has had optic nerve defect from birth. The best corrected visual acuity in his right eye is 20/15 and in his left eye, 20/400. Following an examination in 2009, his optometrist noted, “I certify that in my medical opinion, Mr. Bayless has sufficient vision to perform the driving tasks required to operate a commercial vehicle.” Mr. Bayless reported that he has driven tractor-trailer combinations for 4 years, accumulating 220,000 miles. He holds a Class A CDL from Texas. His driving record for the last 3 years shows no crashes and one conviction for speeding in a CMV. He exceeded the speed limit by 8 mph.

Keith A. Bliss

Mr. Bliss, 41, has had a prosthetic left eye since 1978. The best corrected visual acuity in his right eye is 20/20. Following an examination in 2009, his optometrist noted, “In my opinion, he has sufficient vision to drive a commercial vehicle.” Mr. Bliss reported that he has driven straight trucks for 22 years, accumulating 1.1 million miles, and tractor-trailer combinations for 5 years, accumulating 325,000 miles. He holds a Class A CDL from New York. His driving record for the last 3 years shows no crashes and no convictions for moving violations in a CMV.

Lloyd D. Burgess

Mr. Burgess, 60, has loss of vision in his left eye due to retinal detachment sustained in 2004. The best corrected visual acuity in his right eye is 20/15 and in his left eye, 20/400. Following an examination in 2009, his optometrist noted, “Based on the above findings, I certify that in my medical opinion, Mr. Burgess has sufficient vision to operate a commercial vehicle in a safe manner.” Mr. Burgess reported that he has driven tractor-trailer combinations for 29 years, accumulating 3.5 million miles. He holds a Class A CDL from Ohio.

His driving record for the last 3 years shows no crashes and no convictions for moving violations in a CMV.

Gary R. Butler

Mr. Butler, 57, has a prosthetic right eye due to a traumatic incident that occurred in 1999. The best corrected visual acuity in his left eye, 20/20. Following an examination in 2009, his optometrist noted, “In my opinion and without hesitation, Mr. Butler's vision is sufficient vision to perform the driving tasks required to operate a commercial vehicle.” Mr. Butler reported that he has driven straight trucks for 5 years, accumulating 250,000 miles, and tractor-trailer combinations for 13 years, accumulating 650,000 miles. He holds a Class A CDL from Oklahoma. His driving record for the last 3 years shows no crashes and no convictions for moving violations in a CMV.

David S. Clinger

Mr. Clinger, 58, has loss of vision in his right eye due to maculopathy. The visual acuity in his right eye is 20/200 and in his left eye, 20/25. Following an examination in 2009, his ophthalmologist noted, “In my medical opinion, David's vision is sufficient to perform driving tasks for commercial driving.” Mr. Clinger reported that he has driven straight trucks for 42 years, accumulating 588,000 miles. He holds a Class A CDL from Idaho. His driving record for the last 3 years shows no crashes and no convictions for moving violations in a CMV.

Ronald L. Cote

Mr. Cote, 55, has had amblyopia in his right eye since birth. The best corrected visual acuity in his right eye is 20/400 and in his left eye, 20/15. Following an examination in 2009, his ophthalmologist noted, “My medical opinion is that Lance Ronald Cote is ok visually to drive and operate a commercial vehicle without glasses.” Mr. Cote reported that he has driven straight trucks for 38 years, accumulating 760,000 miles. He holds a Class A CDL from Nevada. His driving record for the last 3 years shows no crashes and no convictions for moving violations in a CMV.

John C. Defoe

Mr. Defoe, 44, has had amblyopia in his left eye since childhood. The visual acuity in his right eye is 20/20 and in his left eye, 20/400. Following an examination in 2009, his ophthalmologist noted, “In my opinion, Mr. Defoe has sufficient vision to perform the driving tasks required to operate a commercial vehicle.” Mr. Defoe reported that he has driven straight trucks for 25 years, accumulating 500,000 miles, and tractor-trailer combinations for 2 years, accumulating 12,000 miles. He holds a Class A CDL from Massachusetts. His driving record for the last 3 years shows no crashes and no convictions for moving violations in a CMV.

Shennon E. Dorsey

Mr. Dorsey, 36, has had a prosthetic left eye since 1996. The visual acuity in his right eye is 20/20. Following an examination in 2009, his optometrist noted, “It is my medical opinion that Mr. Dorsey has the vision necessary to continue to operate a commercial vehicle.” Mr. Dorsey reported that he has driven straight trucks for 13 years, accumulating 1.3 million miles, and tractor-trailer combinations for 13 years, accumulating 1.6 million miles. He holds a Class A CDL from Georgia. His driving record for the last 3 years shows no crashes and no convictions for moving violations in a CMV.

Steve E. Duran

Mr. Duran, 62, has loss of vision in his left eye due to retinal detachment sustained in 2003. The visual acuity in his right eye is 20/20 and in his left eye, light perception. Following an examination in 2009, his optometrist noted, “In my opinion, Mr. Duran has sufficient vision to perform the driving tasks required to operate a commercial vehicle.” Mr. Duran reported that he has driven tractor-trailer combinations for 42 years, accumulating 4.6 million miles. He holds a Class A CDL from New Mexico. His driving record for the last 3 years shows no crashes and no convictions for moving violations in a CMV.

Michael M. Edleston

Mr. Edleston, 58, has loss of vision in his right eye due to a traumatic injury to his cornea sustained in 1969. The best corrected visual acuity in his right eye is 20/400 and in his left eye, 20/20. Following an examination in 2008, his optometrist noted, “His vision is sufficient to drive a commercial vehicle.” Mr. Edleston reported that he has driven straight trucks for 18 years, accumulating 259,200 miles, and tractor-trailer combinations for 21 years, accumulating 903,000 miles. He holds a Class A CDL from Massachusetts. His driving record for the last 3 years shows no crashes and no convictions for moving violations in a CMV.

Cecil A. Evey

Mr. Evey, 54 has had amblyopia in his left eye since childhood. The best corrected visual acuity in his right eye is 20/20 and in his left eye, 20/200. Following an examination in 2008, his optometrist noted, “In my opinion, Cecil Evey has sufficient vision to perform the driving tasks required to operate a commercial vehicle.” Mr. Evey reported that he has driven tractor-trailer combinations for 27 years, accumulating 1.6 million miles. He holds a Class A CDL from Idaho. His driving record for the last 3 years shows no crashes and no convictions for moving violations in a CMV.

Kamal A. Gaddah

Mr. Gaddah, 51, has had central retinal vein occlusion since 2000. The best corrected visual acuity in his right eye is 20/20 and in his left eye, 20/300. Following an examination in 2009, his ophthalmologist noted, “In my medical opinion, Mr. Gaddah has sufficient vision to perform his driving tasks required to operate a commercial vehicle.” Mr. Gaddah reported that he has driven straight trucks for 17 years, accumulating 1.1 million miles. He holds a Class D operator's license from Ohio. His driving record for the last 3 years shows no crashes and no convictions for moving violations in a CMV.

Bradley O. Hart

Mr. Hart, 42, has had amblyopia in his left eye since childhood. The best corrected visual acuity in his right eye is 20/20 and in his left eye, 20/200. Following an examination in 2009, his optometrist noted, “I believe that Mr. Hart has sufficient visual function to operate a commercial vehicle safely.” Mr. Hart reported that he has driven straight trucks for 15 years, accumulating 150,000 miles, and tractor-trailer combinations for 15 years, accumulating 600,000 miles. He holds a Class A CDL from Utah. His driving record for the last 3 years shows no crashes and no convictions for moving violations in a CMV.

John M. Homchick

Mr. Homchick, 62, has had amblyopia in his left eye since birth. The best corrected visual acuity in his right eye is 20/15 and in his left eye, 20/80. Following an examination in 2009, his ophthalmologist noted, “In my opinion, Mr. Homchick has sufficient vision to safely operate a commercial vehicle.” Mr. Homchick reported that he has driven straight trucks for 13 years, accumulating 339,352 miles. He holds a Class A CDL from Washington. His driving record for the last 3 years shows no crashes and no convictions for moving violations in a CMV.

Terry L. Hudgens

Mr. Hudgens, 41, has had amblyopia in his left eye since birth. The best corrected visual acuity in his right eye is 20/20 and in his left eye, 20/60. Following an examination in 2009, his optometrist noted, “In my opinion, Mr. Hudgens has sufficient vision to perform the driving tasks required to operate a commercial vehicle.” Mr. Hudgens reported that he has driven straight trucks for 14 years, accumulating 1.5 million miles. He holds a Class A CDL from Ohio. His driving record for the last 3 years shows one crash, for which he was not cited, and one conviction for speeding in a CMV. He exceeded the speed limit by 14 mph.

Eric M. Kousgaard

Mr. Kousgaard, 30, has had amblyopia in his left eye since birth. The visual acuity in his right eye is 20/20 and in his left eye, 20/400. Following an examination in 2009, his optometrist noted, “Patient does have sufficient vision to perform the driving tasks required to operate a commercial vehicle.” Mr. Kousgaard reported that he has driven straight trucks for 13 years, accumulating 344,500 miles. He holds a Class O operator's license from Nevada, which allows him to drive any non-commercial vehicle except a motorcycle. His driving record for the last 3 years shows no crashes and one conviction for speeding in a CMV. He exceeded the speed limit by 10 mph.

Larry L. Massey

Mr. Massey, 60, has had loss of vision in his left eye due to a congenital birth defect. The best corrected visual acuity in his right eye is 20/20 and in his left eye, 20/80. Following an examination in 2009, his optometrist noted, “I certify in my medical opinion that Larry Massey does have sufficient vision to perform the driving tasks required to operate a commercial vehicle.” Mr. Massey reported that he has driven tractor-trailer combinations for 27 years, accumulating 2.7 million miles. He holds a Class A CDL from Georgia. His driving record for the last 3 years shows no crashes and one conviction for a moving violation in a CMV, failure to obey a traffic sign.

Joe A. McIntyre

Mr. McIntyre, 51, has had amblyopia in his left eye since childhood. The visual acuity in his right eye is 20/20 and in his left eye, 20/400. Following an examination in 2009, his optometrist noted, “I feel he has sufficient vision to perform the driving tasks required to operate a commercial vehicle out of state.” Mr. McIntyre reported that he has driven tractor-trailer combinations for 18 years, accumulating 342,000 miles. He holds a Class A CDL from Georgia. His driving record for the last 3 years shows no crashes and no convictions for moving violations in a CMV.

James F. McMahon, Jr.

Mr. McMahon, 54, has had amblyopia in his right eye since birth. The best corrected visual acuity in his right eye is 20/80 and in his left eye, 20/20. Following an examination in 2008, his optometrist noted, “I do wish to point out that James has been driving commercial vehicles for 24 years and it is my medical opinion that his vision is sufficient to allow him to continue to perform this function.” Mr. McMahon reported that he has driven straight trucks for 34 years, accumulating 450,942 miles. He holds a Class B CDL from New Hampshire. His driving record for the last 3 years shows no crashes and no convictions for moving violations in a CMV.

Samuel A. Miller

Mr. Miller, 35, has had an optic nerve defect in his right eye since birth. The best corrected visual acuity in his right eye is 20/200 and in his left eye, 20/20. Following an examination in 2009, his optometrist noted, “In my opinion, Mr. Miller's congenital optic nerve defect should not prohibit him from safely operating a commercial motor vehicle.” Mr. Miller reported that he has driven straight trucks for 14 years, accumulating 218,400 miles. He holds a chauffeur's license from Indiana. His driving record for the last 3 years shows no crashes and no convictions for moving violations in a CMV.

Marvin L. Motes

Mr. Motes, 67, has a macular scar in his left eye due to a traumatic injury that occurred 15 years ago. The best corrected visual acuity in his right eye is 20/40 and in his left eye, 20/80. Following an examination in 2009, his optometrist noted, “visual deficiency is stable, patient is able to drive, has sufficient vision to operate motor commercial vehicle.” Mr. Motes reported that he has driven straight trucks for 37 years, accumulating 2 million miles, and tractor-trailer combinations for 28 years, accumulating 1.5 million miles. He holds a Class A CDL from Florida. His driving record for the last 3 years shows no crashes and no convictions for moving violations in a CMV.

John W. Myre

Mr. Myre, 50, has a prosthetic left eye due to a traumatic injury since childhood. The best corrected visual acuity in his right eye is 20/20. Following an examination in 2009, his ophthalmologist noted, “Mr. Myre has excellent vision in his right eye and is visually competent to drive commercial vehicles.” Mr. Myre reported that he has driven straight trucks for 31 years, accumulating 322,400, tractor trailer combinations for 18 years, accumulating 187,200 miles. He holds a Class A CDL from South Dakota. His driving record for the last 3 years shows no crashes and no convictions for moving violations in a CMV.

Noah I. Pennington

Mr. Pennington, 67, has had a macular hole in his right eye since 1995. The visual acuity in his right eye is 20/50 and in his left eye, 20/30. Following an examination in 2009, his ophthalmologist noted, “In my medical opinion, the patient does have sufficient vision to perform the driving tasks required to operate a commercial vehicle.” Mr. Pennington reported that he has driven tractor-trailer combinations for 30 years, accumulating 3 million miles. He holds a Class A CDL from Florida. His driving record for the last 3 years shows no crashes and one conviction for speeding in a CMV. He exceeded the speed limit by 10 mph.

Ronald D. Peters

Mr. Peters, 64, has loss of vision in his left eye due to subretinal bleeding stopped by a laser treatment in 2003. The best corrected visual acuity in his right eye is 20/30 and in his left eye, 20/250. Following an examination in 2009, his optometrist noted, “Vision is adequate for commercial license.” Mr. Peters reported that he has driven straight trucks for 20 years, accumulating 800,000 miles, and tractor-trailer combinations for 35 years, accumulating 4.5 million miles. He holds a Class A CDL from South Dakota. His driving record for the last 3 years shows one crash, for which he was cited for following another vehicle too closely, and no other convictions for a moving violation in a CMV.

Stephen Pozharsky

Mr. Pozharsky, 62, has a prosthetic left eye due to a traumatic injury sustained in 1973. The best corrected visual acuity in his right eye is 20/20. Following an examination in 2009, his optometrist noted, “Has sufficient vision to operate motor commercial vehicle with present condition.” Mr. Pozharsky reported that he has driven straight trucks for 36 years, accumulating 756,000 miles, and tractor-trailer combinations for 18 years, accumulating 252,000 miles. He holds a Class A CDL from New Jersey. His driving record for the last 3 years shows no crashes and no convictions for moving violations in a CMV.

Angelo D. Rogers

Mr. Rogers, 48, has had amblyopia in his left eye since childhood. The visual acuity in his right eye is 20/20 and in his left eye, 20/80. Following an examination in 2009, his ophthalmologist noted, “In my opinion, Angelo Rogers has sufficient vision to perform the driving tasks required to operate a commercial vehicle.” Mr. Rogers reported that he has driven straight trucks for 13 years, accumulating 221,000 miles, and tractor-trailer combinations for 13 years, accumulating 522,600 miles. He holds a Class A CDL from Alabama. His driving record for the last 3 years shows no crashes and no convictions for moving violations in a CMV.

Larry T. Rogers

Mr. Rogers, 56, has had pappilodema in his right eye since 1999. The best corrected visual acuity in his right eye is 20/100 and in his left eye, 20/20. Following an examination in 2009, his optometrist noted, “In my opinion, Todd shows sufficient vision (acuity and visual field) to operate a commercial vehicle.” Mr. Rogers reported that he has driven tractor-trailer combinations for 25 years, accumulating 1 million miles. He holds a Class A CDL from Illinois. His driving record for the last 3 years shows no crashes and no convictions for moving violations in a CMV.

Ricky J. Sanderson

Mr. Sanderson, 38, has macular scarring in his left eye due to a traumatic injury sustained in 1999. The visual acuity in his right eye is 20/15 and in his left eye, 20/200. Following an examination in 2009, his optometrist noted, “With binocular vision he appears to have adequate vision for commercial driving.” Mr. Sanderson reported that he has driven straight trucks for 5 years, accumulating 7,500 miles, tractor-trailer combinations for 15 years, accumulating 600,000 miles, and buses for 11 years, accumulating 114,400 miles. He holds a Class A CDL from Utah. His driving record for the last 3 years shows no crashes and no convictions for moving violations in a CMV.

George V. Sorondo

Mr. Sorondo, 59, has had amblyopia in his left eye since birth. The best corrected visual acuity in his right eye is 20/20 and in his left eye, 20/70. Following an examination in 2009, his optometrist noted, “It is my professional medical opinion that Mr. Sorondo's vision, which has remained stable for decades, provides adequate, safe vision to maintain his commercial driver's license.” Mr. Sorondo reported that he has driven straight trucks for 37 years, accumulating 669,330 miles. He holds a Class B CDL from California. His driving record for the last 3 years shows no crashes and no convictions for moving violations in a CMV.

Marcial Soto-Rivas

Mr. Soto-Rivas, 55, has loss of vision in his right eye due to a traumatic injury. The visual acuity in his right eye is light perception and in his left eye, 20/20. Following an examination in 2008, his optometrist noted, “In my medical opinion, Mr. Soto-Rivas does have sufficient vision to perform the driving tasks required to operate a commercial vehicle.” Mr. Soto-Rivas reported that he has driven straight trucks for 19 years, accumulating 380,000 miles, tractor-trailer combinations for 14 years, accumulating 840,000 miles, and buses for 10 years, accumulating 150,000 miles. He holds a Class A CDL from Oregon. His driving record for the last 3 years shows no crashes and no convictions for moving violations in a CMV.

Marvin L. Stein

Mr. Stein, 72, has loss of vision in his right eye due to macular degeneration. The best corrected visual acuity in his right eye is count-finger vision and in his left eye, 20/30. Following an examination in 2009, his ophthalmologist noted, “It is my medical opinion that his vision would be sufficient to perform the driving tasks required to operate a commercial vehicle.” Mr. Stein reported that he has driven straight trucks for 5 years, accumulating 375,000 miles, and tractor-trailer combinations for 49 years, accumulating 6.4 million miles. He holds a Class A CDL from Pennsylvania. His driving record for the last 3 years shows no crashes and no convictions for moving violations in a CMV.

David C. Sybesma

Mr. Sybesma, 52, has complete loss of vision in his right eye due to treatment for choroidal melanoma obtained in 1993. The visual acuity in his left eye is 20/20. Following an examination in 2009, his optometrist noted, “At his time, he is well adapted to monocular vision, has 20/20 vision in his left eye and in my opinion has sufficient vision to perform the driving tasks required to operate a commercial vehicle.” Mr. Sybesma reported that he has driven straight trucks for 13 years, accumulating 69,350 miles, and tractor-trailer combinations for 13 years, accumulating 1.2 million miles. He holds a Class A CDL from Idaho. His driving record for the last 3 years shows no crashes and no convictions for moving violations in a CMV.

Bruce E. Thulin

Mr. Thulin, 58, has had a prosthetic right eye since childhood. The best corrected visual acuity in his left eye is 20/20. Following an examination in 2009, his optometrist noted, “In my opinion, Mr. Thulin has sufficient vision to perform the driving tasks required to operate a commercial vehicle.” Mr. Thulin reported that he has driven straight trucks for 44 years, accumulating 4.4 million miles, and tractor-trailer combinations for 39 years, accumulating 3.9 million miles. He holds a Class A CDL from Nebraska. His driving record for the last 3 years shows no crashes and one conviction for speeding in a CMV. He exceeded the speed limit by 9 mph.

Matthew K. Tucker

Mr. Tucker, 38, has optic atrophy in his left eye since 1970. The best corrected visual acuity in his right eye is 20/80 and in his left eye, 20/20. Following an examination in 2009, his ophthalmologist noted, “Thus, I believe that his vision is adequate for him to perform the driving tasks required to operate a commercial vehicle.” Mr. Tucker reported that he has driven straight trucks for 10 years, accumulating 1 million miles, and tractor-trailer combinations for 10 years, accumulating 1.2 million miles. He holds a Class A CDL from Minnesota. His driving record for the last 3 years shows no crashes and no convictions for moving violations in a CMV.

Stanley W. Tyler, Jr.

Mr. Tyler, 41, has complete loss of vision in his left eye due to a traumatic injury sustained as a child. The visual acuity in his right eye is 20/20. Following an examination in 2009, his ophthalmologist noted, “I believe that Mr. Tyler has perfectly adequate vision to perform the driving tasks required to operate a commercial vehicle.” Mr. Tyler reported that he has driven straight trucks for 10 years, accumulating 275,000 miles. He holds a Class B CDL from Virginia. His driving record for the last 3 years shows no crashes and no convictions for moving violations in a CMV.

Victor H. Vera

Mr. Vera, 35, has had retinal scarring in his right eye since 2002. The best corrected visual acuity in his right eye is 20/200 and in his left eye, 20/20. Following an examination in 2009, his optometrist noted, “My opinion is that he has sufficient vision to safely operate a commercial vehicle.” Mr. Vera reported that he has driven tractor-trailer combinations for 4 years, accumulating 729,600 miles. He holds a Class A CDL from Texas. His driving record for the last 3 years shows no crashes and one conviction for speeding in a CMV. He exceeded the speed limit by 7 mph.

Charles A. Winchell

Mr. Winchell, 54, has complete loss of vision in his left eye due to an infection that resulted in a failed corneal transplant in 1999. The best corrected visual acuity in his right eye is 20/25. Following an examination in 2009, his optometrist noted, “I certify that in my opinion that Chuck has sufficient vision to perform the driving tasks required to operate a commercial vehicle as he has been doing this for many years with the same condition.” Mr. Winchell reported that he has driven tractor-trailer combinations for 35 years, accumulating 1.7 million miles. He holds a Class D operator's license from Oklahoma. His driving record for the last 3 years shows no crashes and one conviction for speeding in a CMV. He exceeded the speed limit by 10 mph.

Request for Comments

In accordance with 49 U.S.C. 31136(e) and 31315, FMCSA requests public comment from all interested persons on the exemption petitions described in this notice. The Agency will consider all comments received before the close of business August 27, 2009. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: July 21, 2009.
Larry W. Minor,
Associate Administrator for Policy and Program Development.

[FR Doc. E9-17966 Filed 7-27-09; 8:45 am]

BILLING CODE 4910-EX-P